DEPARTMENT OF VETERANS AFFAIRS

Privacy Act of 1974; Deletion of System of Records

AGENCY: Department of Veterans Affairs.

ACTION: Notice of deletion.

Notice is hereby given that the Department of Veterans Affairs (VA) is deleting a system of records entitled “Employee Reporting System for Project Administration and Control (Data Processing Centers)” (10VA31), which was first published 42 CFR 49732 dated September 27, 1977, and revised at 47 CFR 20242 dated May 11, 1982. The system of records known as “Employee Reporting System for Project Administration and Control (Data Processing Centers)—VA” is obsolete. The information was initially developed as a means to track project assignments and related task assignments and the time an employee spends on administrative overhead tasks. The requirement for VA to maintain this system of records no longer exists. System records have not been amended nor added in several years and, due to mandatory routine destruction, in accordance with applicable records disposition authority, no records exist in the system.

A “Report of Intention to Publish a Federal Register Notice of Deletion of a System of Records” and an advance copy of the system notice have been provided to the appropriate congressional committees and to the Director, Office of Management and Budget (OMB), as required by 5 U.S.C. 552a(r) and guidelines issued by OMB (65 CFR 77677), dated December 12, 2000. This system deletion is effective April 21, 2011.

Approved: March 31, 2011.
John R. Gingrich,
Chief of Staff, Department of Veterans Affairs.

[FR Doc. 2011-9685 Filed 4-20-11; 8:45 am]

BILLING CODE 8320-01-P